DEPARTMENT OF DEFENSE

Office of the Secretary

[Docket ID: DOD-2009-OS-0057]

Privacy Act of 1974; System of Records

AGENCY: Defense Security Service, DoD.

ACTION: Notice to alter a System of Records.

SUMMARY: The Defense Security Service proposes to alter a system of records notice in its inventory of record systems subject to the Privacy Act of 1974 (5 U.S.C. 552a), as amended. The alteration changes the name and location of the system and adds one additional purpose for how the records are used.

DATES: The proposed action will be effective without further notice on June 1, 2009 unless comments are received which would result in a contrary determination.

ADDRESSES: Send comments to the Privacy Act Officer, Defense Security Service, Office of FOIA/PA, 1340 Braddock Place, Alexandria, VA 22314-1651.

FOR FURTHER INFORMATION CONTACT: Mr. Leslie R. Blake at (703) 325-9450.

SUPPLEMENTARY INFORMATION: The Defense Security Service notices for systems of records subject to the Privacy Act of 1974 (5 U.S.C. 552a), as amended, have been published in the Federal Register and are available from the address above or online at http://www.dss.mil.

The proposed system report, as required by 5 U.S.C. 552a (r), of the Privacy Act of 1974, as amended, was submitted on April 22, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: April 27, 2009.
Morgan E. Frazier,
Alternate OSD Federal Register Liaison Officer, Department of Defense.

V5-01

SYSTEM NAME:

Personnel Security Investigative File Automation Subsystem (August 17, 1999, 64 FR 44704).

CHANGES:

* * * * *

SYSTEM NAME:

Delete entry and replace with “Investigative Records Repository.”

SYSTEM LOCATION:

Delete entry and replace with “Defense Security Service, P.O. Box 168, 1137 Branchton Road, Boyers, PA 16020-0168.”

* * * * *

AUTHORITY FOR MAINTENANCE OF THE SYSTEM:

Delete entry and replace with “5 U.S.C. 301, Departmental Regulations; 10 U.S.C. 615, Armed Forces, Information furnished to selection boards; E.O. 10450, Security Requirements for Government Employment; DoD Directive 5105.42, Defense Security Service; DoD Directive 5200.2, Department of Defense Personnel Security Program; DoD Directive 5200.27 (Sections IV A and B), Acquisition of Information Concerning Persons and Organizations not Affiliated with the Department of Defense; DoD Directive 5220.6, Defense Industrial Personnel Security Clearance Program Review; DoD Directive 5220.28, Application of Special Eligibility and Clearance Requirements in the SIOP-ESI Program for Contractor Employees, and 18 U.S.C. 3056, Powers and Duties of the Secret Service and E.O. 9397 (SSN).”

PURPOSE(S):

Delete entry and replace with “To ensure that the acceptance or retention of persons in sensitive DoD positions or granting individuals including those employed in defense industry access to classified information is clearly consistent with national security.

To determine the loyalty, suitability, eligibility, and general trustworthiness of individuals for access to defense information and facilities.

To determine the eligibility and suitability of individuals for entry into and retention in the Armed Forces.

To provide information pertinent to the protection of persons under the provisions of 18 U.S.C. 3056, Powers and Duties of the Secret Service.

For use in criminal law enforcement investigations, including statutory violations and counterintelligence as well as counterespionage and other security matters.

For use in military boards selecting military members for promotion to grades above 0-6.”

* * * * *

SYSTEM MANAGER(S) AND ADDRESS:

Delete entry and replace with “Defense Security Service, P.O. Box 168, 1137 Branchton Road, Boyers, PA 16020-0168.”

* * * * *

NOTIFICATION PROCEDURES:

Delete entry and replace with “Individuals seeking to determine whether information about themselves is contained in this system should send written inquiries to the Defense Security Service, Office of FOIA and PA, 1340 Braddock Place, Alexandria, VA 22314-1615.

A request for this information must contain the full name and Social Security Number of the subject individual, along with the address where the information is to be returned.”

RECORD ACCESS PROCEDURES:

Delete entry and replace with “Individuals seeking access to information about themselves contained in this system must send written signed inquiries to Defense Security Service, Privacy Act Branch, 938 Elkridge Landing Road, Linthicum, MD 21090.

A request for information must contain the full name and Social Security Number of the subject individual and address where the records are to be returned.”

* * * * *

V5-01

SYSTEM NAME:

Investigative Records Repository.

SYSTEM LOCATION:

Defense Security Service, P.O. Box 168, 1137 Branchton Road, Boyers, PA 16020-0168.

CATEGORIES OF INDIVIDUALS COVERED BY THE SYSTEM:

Military personnel who are active duty; applicants for enlistment or appointment; members of Reserve units; National guardsmen; DoD civilian personnel who are paid from appropriated funds; industrial or contractor personnel who are working in private industry in firms which have contracts involving access to classified DoD information or installations; Red Cross personnel and personnel paid from nonappropriated funds who have DoD affiliation; Reserve Officers' Training Corps (ROTC) cadets; former military personnel; and individuals residing on, have authorized official access to, or conducting or operating any business or other functions at any DoD installation or facility.

CATEGORIES OF RECORDS IN THE SYSTEM:

Official Reports of Investigation (ROIs) prepared by DSS or other DoD, federal, state, or local official investigative activities; industrial security administrative inquiries (AISs). Attachments to ROIs or AISs including exhibits, subject or interviewee statements, police records, medical records, credit bureau reports, employment records, education records, release statements, summaries of, or extracts from other similar records or reports.

Case control and management documents which are not reports of investigation, but which serve as the basis for investigation, or which serve to guide and facilitate investigative activity, including documents providing the data to open and conduct the case; and documents initiated by the subject.

DSS file administration and management documents accounting for the disclosure of, control of, and access to a file.

AUTHORITY FOR MAINTENANCE OF THE SYSTEM:

5 U.S.C. 301, Departmental Regulations; 10 U.S.C. 615, Armed Forces, Information furnished to selection boards; E.O. 10450, Security Requirements for Government Employment; DoD Directive 5105.42, Defense Security Service; DoD Directive 5200.2, Department of Defense Personnel Security Program; DoD Directive 5200.27 (Sections IV A and B), Acquisition of Information Concerning Persons and Organizations not Affiliated with the Department of Defense; DoD Directive 5220.6, Defense Industrial Personnel Security Clearance Program Review; DoD Directive 5220.28, Application of Special Eligibility and Clearance Requirements in the SIOP-ESI Program for Contractor Employees, and 18 U.S.C. 3056, Powers and Duties of the Secret Service and E.O. 9397 (SSN).

PURPOSE(S):

To ensure that the acceptance or retention of persons in sensitive DoD positions or granting individuals including those employed in defense industry access to classified information is clearly consistent with national security.

To determine the loyalty, suitability, eligibility, and general trustworthiness of individuals for access to defense information and facilities.

To determine the eligibility and suitability of individuals for entry into and retention in the Armed Forces.

To provide information pertinent to the protection of persons under the provisions of 18 U.S.C. 3056, Powers and Duties of the Secret Service.

For use in criminal law enforcement investigations, including statutory violations and counterintelligence as well as counterespionage and other security matters.

For use in military boards selecting military members for promotion to grades above 0-6.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

For maintenance and use by the requesting activity when collected during reciprocal investigations conducted for other DoD and federal investigative elements.

For dissemination to federal agencies or other DoD components when information regarding personnel security matters is reported by Information Summary Report.

The `Blanket Routine Uses' published at the beginning of DSS' compilation of systems of records notices apply to this system.

POLICIES AND PRACTICES FOR STORING, RETRIEVING, ACCESSING, RETAINING, AND DISPOSING OF RECORDS IN THE SYSTEM:

STORAGE:

Records are maintained on magnetic media to include disk, tape and microfilm. Some paper records may still exist on cases which have not yet been converted to magnetic media and on records containing classified information.

RETRIEVABILITY:

Information is retrieved Social Security Number (SSN).

SAFEGUARDS:

Completed investigative records are stored in secured areas accessible only to authorized DSS personnel who have a need-to-know. Paper records are maintained in safes and locked rooms and magnetic media records are protected from access by `fail-safe' system software. The entire building housing these records are controlled by guards/visitor register.

RETENTION AND DISPOSAL:

Retention of closed DSS investigative files is authorized for 15 years maximum, except as follows:

(1) Files which have resulted in final adverse action against an individual will be retained 25 years;

(2) Files developed on persons who are being considered for affiliation with the Department of Defense will be destroyed within one year if the affiliation is not completed. In cases involving a pre-appointment investigation, if the appointment is not made due to information developed by investigation, the file will be retained 25 years upon notification from the requester for which the investigation was conducted. If the appointment is not made due to information developed by investigation, the file will be retained 25 years upon notification from the requester for which the investigation was conducted. If the appointment is not made for another reason not related to the investigation, the file will be destroyed within one year upon notification from the requesting agency service;

(3) Files concerning unauthorized disclosure of classified information and other specialized investigation files will be retained for 15 years; and

(4) Information within the purview of the Department of Defense Directive 5200.27, Acquisition of Information C oncerning Persons and Organizations not Affiliated with the Department of Defense, is destroyed within one year after acquisition by DSS unless its retention is required by law or unless its retention has been specifically authorized by the Secretary of Defense or his designee;

(5) Reciprocal investigations are retained for only 60 days; and

(6) Partial duplicate records of personnel security investigations are retained for 60 days by DSS field elements.

SYSTEM MANAGER(S) AND ADDRESS:

Defense Security Service, P.O. Box 168, 1137 Branchton Road, Boyers, PA 16020-0168.

NOTIFICATION PROCEDURES:

Individuals seeking to determine whether information about themselves is contained in this system should send written inquiries to the Defense Security Service, Office of FOIA and PA, 1340 Braddock Place, Alexandria, VA 22314-1615.

A request for this information must contain the full name and Social Security Number of the subject individual, along with the address where the information is to be returned.

RECORD ACCESS PROCEDURES:

Individuals seeking access to information about themselves contained in this system must send written signed inquiries to Defense Security Service, Privacy Act Branch, 938 Elkridge Landing Road, Linthicum, MD 21090.

A request for information must contain the full name and Social Security Number of the subject individual and address where the records are to be returned.

CONTESTING RECORD PROCEDURES:

DSS' rules for accessing records, contesting contents, and appealing initial agency determinations are contained in DSS Regulation 01-13; 32 CFR part 321; or may be obtained from the Defense Security Service, Office of FOI and PA, 1340 Braddock Place, Alexandria, VA 22314-1651.

RECORD SOURCE CATEGORIES:

Subjects of investigations, records of other DoD activities and components, Federal, state, county, and municipal records, employment records of private business and industrial firms. Educational and disciplinary records of schools, colleges, universities, technical and trade schools. Hospital, clinic, and other medical records.

Records of commercial enterprises such as real estate agencies, credit bureaus, loan companies, credit unions, banks, and other financial institutions which maintain credit information on individuals.

The interview of individuals who are thought to have knowledge of the subject's background and activities.

The interview of witnesses, victims, and confidential sources.

The interview of any individuals deemed necessary to complete the DSS investigation.

Miscellaneous directories, rosters, and correspondence.

Any other type of record deemed necessary to complete the DSS investigation.

EXEMPTIONS CLAIMED FOR THE SYSTEM:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Records maintained in connection with providing protective services to the President and other individuals under 18 U.S.C. 3506, may be exempt pursuant to 5 U.S.C. 552a(k)(3).

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 321. For additional information contact the system manager.

[FR Doc. E9-9907 Filed 4-29-09; 8:45 am]

BILLING CODE 5001-06-P